DEPARTMENT OF COMMERCE

Census Bureau

Agency Information Collection Activities; Submission to the Office of Management and Budget (OMB) for Review and Approval; Comment Request; Current Population Survey (CPS) Basic Demographic Items; Correction

AGENCY: Census Bureau, Department of Commerce.

ACTION: Notice; correction.

SUMMARY: On March 1, 2024, the Department of Commerce published a 60-day public comment period notice in the Federal Register seeking public comments for an information collection entitled, “Current Population Survey (CPS) Basic Demographic Items.” This document referenced incorrect information in the SUMMARY and SUPPLEMENTARY INFORMATION sections, and Commerce hereby issues a correction notice as required by the Paperwork Reduction Act of 1995.

FOR FURTHER INFORMATION CONTACT: For additional information concerning this correction, contact Kyra Linse, Survey Director, Current Population Surveys via the internet at dsd.cps@census.gov, or by calling 301-763-9280.

SUPPLEMENTARY INFORMATION:

Corrections

In the Federal Register of March 1, 2024, in FR Doc. 2024-04381, correct the following:

1. On page 15119, in the second column, correct the SUMMARY section to read:

SUMMARY: The purpose of this notice is to allow for 60 days of public comment on the proposed extension without change of the Current Population Survey Basic Demographics as required by the Paperwork Reduction Act of 1995, prior to the submission of the information collection request (ICR) to OMB for approval.

2. On page 15120, in the first column, correct the text following the heading “Type of Review:” in the “III. Data” section in the SUPPLEMENTARY INFORMATION section to read:

III. Data

Type of Review: Regular submission. Extension without change of a currently approved collection.

Sheleen Dumas,
Department PRA Clearance Officer, Office of the Under Secretary for Economic Affairs, Commerce Department.

[FR Doc. 2024-05797 Filed 3-18-24; 8:45 am]

BILLING CODE 3510-07-P